SECURITIES AND EXCHANGE COMMISSION

Issuer Delisting; Notice of Application to Withdraw From Listing and Registration; (Enzo Biochem, Inc., Common Stock, Par Value $.01 per Share) File No. 1-9974

January 13, 2000.

Enzo Biochem, Inc. (“Company”), has filed an appliction with the Securities and Exchange Commission (“Commission”), pursuant to Section 12(d) of the Securities Exchange Act of 1934 (“Act”) ¹ and Rule 12d2-2(d) thereunder,² to withdraw the security specified above (“Security”) from listing and registration on the American Stock Exchange LLC (“Amex” or “Exchange”).

¹ 15 U.S.C. 78l(d).

² 17 CFR 240.12d2-2(d).

The Security has been listed for trading on the Amex and, pursuant to a Registration Statement on Form 8-A filed with the Commission which became effective on December 8, 1999, on the New York Stock Exchange, Inc. (“NYSE”). Trading in the Security on the NYSE commenced at the opening of business on December 16, 1999.

The Company has complied with Amex Rule 18 by filing with the Exchange a certified copy of the preambles and resolutions adopted by the Company's Board of Directors authorizing the withdrawal of its Security from listing and registration on the Exchange and by setting forth in detail to the Exchange the reasons for such proposed withdrawal and the facts in support thereof. The Amex has in turn informed the Company that it does not object to the proposed withdrawal of the Company's Security from listing and registration on the Exchange.

In making the decision to withdraw the Security from listing on the Amex in conjunction with its new listing on the NYSE, the Company has cited its desire to avoid the direct and indirect costs, as well as the division of the market for its Security, which would arise from maintaining simultaneous listings on the Amex and the NYSE. The Company believes that the NYSE listing will provide better marketplace visibility for its Security than the Amex did and thereby enhance its value for shareholders.

The Company's application relates solely to the withdrawal of the Security from listing and registration on the Amex and shall have no effect upon the Security's continued listed and registration on the NYSE. By reason of Section 12(b) of the Act ³ and the rules and regulations of the Commission thereunder, the Company shall continue to be obligated to file reports with the Commission under Section 13 of the Act.⁴

³ 15 U.S.C. 78l(b).

⁴ 15 U.S.C. 78m.

Any interested person may, on or before February 4, 2000, submit by letter to the Secretary of the Securities and Exchange Commission, 450 Fifth Street, N.W., Washington, D.C. 20549-0609, facts bearing upon whether the application has been made in accordance with the rules of the Exchange and what terms, if any, should be imposed by the Commission for the protection of investors. The Commission, based on the information submitted to it, will issue an order granting the application after the date mentioned above, unless the Commission determines to order a hearing on the matter.

For the Commission, by the Division of Market Regulation, pursuant to delegated authority.⁵

⁵ 17 CFR 200.30-3(a)(1).

Jonathan G. Katz,
Secretary.

[FR Doc. 00-1474 Filed 1-20-00 8:45 am]

BILLING CODE 8010-01-M